INTERNATIONAL TRADE COMMISSION

[Investigation Nos. 701-TA-475 and 731-TA-1177 (Review)]

Aluminum Extrusions From China Determinations

On the basis of the record ¹ developed in the subject five-year reviews, the United States International Trade Commission (“Commission”) determines, pursuant to the Tariff Act of 1930 (“the Act”), that revocation of the countervailing and antidumping duty orders on aluminum extrusions from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on April 1, 2016 (81 FR 18884) and determined on July 5, 2016 that it would conduct full reviews (81 FR 45304, July 13, 2016). Notice of the scheduling of the Commission's reviews and of a public hearing to be held in connection therewith was given by posting copies of the notice in the Office of the Secretary, U.S. International Trade Commission, Washington, DC, and by publishing the notice in the Federal Register on October 5, 2016 (81 FR 69078). The hearing was held in Washington, DC, on January 26, 2017, and all persons who requested the opportunity were permitted to appear in person or by counsel.

The Commission made these determinations pursuant to section 751(c) of the Act (19 U.S.C. 1675(c)). It completed and filed its determinations in these reviews on March 27, 2017. The views of the Commission are contained in USITC Publication 4677 (March 2017), entitled Certain Aluminum Extrusions from China: Investigation Nos. 701-TA-475 and 731-TA-1177 (Review).

By order of the Commission.
Issued: March 27, 2017.
Lisa R. Barton,
Secretary to the Commission.

[FR Doc. 2017-06274 Filed 3-29-17; 8:45 am]

BILLING CODE 7020-02-P